DEPARTMENT OF COMMERCE

International Trade Administration

[A-570-863]

Honey From the People's Republic of China: Final Results of Antidumping Duty Administrative Review; 2011-2012

AGENCY: Import Administration, International Trade Administration, Department of Commerce.

SUMMARY: On June 28, 2013, the Department of Commerce (the “Department”) published the Preliminary Results ¹ of the 2011-2012 administrative review of the antidumping duty order on honey from the People's Republic of China (“PRC”). The period of review (“POR”) is December 1, 2011, through November 30, 2012. We gave interested parties an opportunity to comment on the Preliminary Results, but we received none. The final weighted-average dumping margin for the PRC-wide entity is listed in the “Final Results of Review” section below.

¹ See Honey From the People's Republic of China: Preliminary Results and Partial Rescission of Antidumping Duty Administrative Review; 2011-2012, 78 FR 38941 (June 28, 2013), and accompanying Decision Memorandum (“Preliminary Results”).

DATES: Effective Date: September 16, 2013.

FOR FURTHER INFORMATION CONTACT: Emeka Chukwudebe, AD/CVD Operations, Office 9, Import Administration, International Trade Administration, Department of Commerce, 14th Street and Constitution Avenue NW., Washington, DC 20230; telephone: (202) 482-0219.

SUPPLEMENTARY INFORMATION:

Background

On June 28, 2013, the Department published the Preliminary Results. We invited interested parties to comment on the Preliminary Results, but we received none. The Department has conducted this administrative review in accordance with section 751(a) of the Tariff Act of 1930, as amended (“the Act”).

Scope of the Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90, 2106.90.99, 0409.00.0010, 0409.00.0035, 0409.00.0005, 0409.00.0045, 0409.00.0056, and 0409.00.0065 of the Harmonized Tariff Schedule of the United States (“HTSUS”). Although the HTSUS subheadings are provided for convenience and customs purposes, the Department's written description of the merchandise under the order is dispositive.

Also included in the scope are blends of honey and rice syrup, regardless of the percentage of honey contained in the blend.

PRC-Wide Entity

In the Preliminary Results, the Department determined that 66 companies ² failed to demonstrate their eligibility for a separate rate and were considered part of the PRC-wide entity.³ After issuing the Preliminary Results, the Department did not receive any comments from interested parties. Because nothing has changed with respect to these companies since the Preliminary Results, we continue to find them to be part of the PRC-wide entity.

² See Appendix.

³ See Preliminary Results, and accompanying Decision Memorandum at 3 where the Department stated that while American Honey Producers Association and Sioux Honey Association (“Petitioners”) withdrew their requests for review for 62 additional companies, those companies remain under review as part of the PRC-wide entity and the Department will make a determination with respect to the PRC-wide entity in the preliminary results and the final results.

Additionally, we also stated that if our preliminary decision with respect to the U.S. importer Milky Way International Trading Co. (dba MW Polar Foods) (“Milky Way”) remains unchanged for the final results, we would refer the issue of Milky Way importing type 3 entries of subject merchandise as type 1 entries (i.e., not subject to antidumping tariffs) to U.S. Customs and Border Protection (“CBP”).⁴ Because nothing has changed with respect to Milky Way, we intend to refer this issue to CBP upon issuance of these final results.

⁴ See id.

Final Results of Review

The Department has made no changes to the Preliminary Results. As a result of our review, we determine that the following dumping margin exists for the period December 1, 2011, through November 30, 2012:

Exporter | Margin (dollars per kilogram)
PRC-wide entity (which includes the companies listed in Appendix 1) | $2.63

Assessment

Pursuant to section 751(a)(2)(C) of the Act, and 19 CFR 351.212(b)(1), the Department has determined, and CBP shall assess, antidumping duties on all appropriate entries of subject merchandise and deposits of estimated duties, where applicable, in accordance with the final results of this review. The Department intends to issue assessment instructions to CBP 15 days after the date of publication of these final results of review. The Department recently announced a refinement to its assessment practice in non-market economy (“NME”) cases.⁵ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁶

⁵ See Non-Market Economy Antidumping Proceedings: Assessment of Antidumping Duties, 76 FR 65694 (October 24, 2011).

⁶ See id.

Cash Deposit Requirements

The following cash deposit requirements will be effective upon publication of the final results of this administrative review for all shipments of the subject merchandise from the PRC entered, or withdrawn from warehouse, for consumption on or after the publication date of the final results, as provided by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate of $2.63 per kilogram; and (3) for all non-PRC exporters of subject merchandise which have not received their own rate, the cash deposit rate will be the rate applicable to the PRC exporters that supplied that non-PRC exporter. These deposit requirements, when imposed, shall remain in effect until further notice.

Notifications

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act.

Dated: September 10, 2013.
Paul Piquado,
Assistant Secretary for Import Administration.

Appendix

The following companies are not eligible for separate rate status in this administrative review and are considered part of the PRC-wide Entity:

1. Ahcof Industrial Development Corp., Ltd.

2. Alfred L. Wolff (Beijing) Co., Ltd.

3. Anhui Changhao Import & Export Trading

4. Anhui Honghui Import & Export Trade Co., Ltd.

5. Anhui Cereals Oils and Foodstuffs I/E (Group) Corporation

6. Anhui Hundred Health Foods Co., Ltd.

7. Anhui Native Produce Imp & Exp Corp.

8. Anhui Time Tech Co., Ltd.

9. APM Global Logistics (Shanghai) Co.

10. Baiste Trading Co., Ltd.

11. Cheng Du Wai Yuan Bee Products Co., Ltd.

12. Chengdu Stone Dynasty Art Stone

13. Damco China Limited Qingdao Branch

14. Dongtai Peak Honey Industry Co., Ltd.

15. Eurasia Bee's Products Co., Ltd.

16. Feidong Foreign Trade Co., Ltd.

17. Fresh Honey Co., Ltd. (formerly Mgl. Yun Shen)

18. Golden Tadco Int'l

19. Hangzhou Golden Harvest Health Industry Co., Ltd.

20. Hangzhou Tienchu Miyuan Health Food Co., Ltd.

21. Haoliluck Co., Ltd.

22. Hengjide Healthy Products Co. Ltd.

23. Hubei Yusun Co., Ltd.

24. Inner Mongolia Altin Bee-Keeping

25. Inner Mongolia Youth Trade Development Co., Ltd.

26. Jiangsu Cereals, Oils Foodstuffs Import Export (Group) Corp.

27. Jiangsu Kanghong Natural Healthfoods Co., Ltd.

28. Jiangsu Light Industry Products Imp & Exp (Group) Corp.

29. Jilin Province Juhui Import

30. Maersk Logistics (China) Company Ltd.

31. Nefelon Limited Company

32. Ningbo Shengye Electric Appliance

33. Ningbo Shunkang Health Food Co., Ltd.

34. Ningxia Yuehai Trading Co., Ltd.

35. Product Source Marketing Ltd.

36. Qingdao Aolan Trade Co., Ltd.

37. QHD Sanhai Honey Co., Ltd.

38. Qinhuangdao Municipal Dafeng Industrial Co., Ltd.

39. Renaissance India Mannite

40. Shaanxi Youthsun Co., Ltd.

41. Shanghai Bloom International Trading Co., Ltd.

42. Shanghai Foreign Trade Co., Ltd.

43. Shanghai Hui Ai Mal Tose Co., Ltd.

44. Shanghai Luyuan Import & Export

45. Shine Bal Co., Ltd.

46. Sichuan-Dujiangyan Dubao Bee Industrial Co., Ltd.

47. Sichuan Hasten Imp Exp. Trading Co., Ltd.

48. Silverstream International Co., Ltd.

49. Sunnice Honey

50. Suzhou Aiyi IE Trading Co., Ltd.

51. Suzhou Shanding Honey Product Co. Ltd.

52. Tianjin Weigeda Trading Co., Ltd.

53. Wanxi Haohua Food Co., Ltd.

54. Wuhan Shino-Food Trade Co., Ltd.

55. Wuhu Anjie Food Co., Ltd.

56. Wuhu Deli Foods Co. Ltd.

57. Wuhu Fenglian Co., Ltd.

58. Wuhu Haoyikuai I & E Co.

59. Wuhu Haoyikuai Import & Export Co., Ltd.

60. Wuhu Haoyikuai Food Products Co., Ltd.

61. Wuhu Qinshi Tangye

62. Wuhu Qinshi Tangye Co., Ltd.

63. Wuhu Xinrui Bee-Product Co., Ltd.

64. Xinjiang Jinhui Food Co., Ltd.

65. Youngster International Trading Co., Ltd.

66. Zhejiang Willing Foreign Trading Co.

[FR Doc. 2013-22477 Filed 9-13-13; 8:45 am]

BILLING CODE 3510-DS-P